NATIONAL AERONAUTICS AND SPACE ADMINISTRATION

Notice of Information Collection

AGENCY: National Aeronautics and Space Administration (NASA).

NOTICE: (14-001).

ACTION: Notice of information collection.

SUMMARY: The National Aeronautics and Space Administration, as part of its continuing effort to reduce paperwork and respondent burden, invites the general public and other Federal agencies to take this opportunity to comment on proposed and/or continuing information collections, as required by the Paperwork Reduction Act of 1995 (Pub. L. 104-13, 44 U.S.C. 3506(c)(2)(A)).

DATES: All comments should be submitted within 60 calendar days from the date of this publication.

ADDRESSES: All comments should be addressed to Fran Teel, Mail Code JF000, National Aeronautics and Space Administration, Washington, DC 20546-0001.

FOR FURTHER INFORMATION CONTACT: Requests for additional information or copies of the information collection instrument(s) and instructions should be directed to Fran Teel, NASA PRA Officer, NASA Headquarters, 300 E Street SW., Mail Code JF000, Washington, DC 20546, (202) 358-2225 or Frances.C.Teel@NASA.gov

SUPPLEMENTARY INFORMATION:

I. Abstract

NASA intends to continue an information collection associated with the Women in STEM Aerospace Scholars (WISH) and NASA High School Aerospace Scholars (NHAS) projects. These projects are aligned with NASA's Strategic Goal 6, which is to share NASA with the public, educators, and students to provide opportunities to participate in our mission, foster innovation and contribute to a strong National economy. The Women in STEM High School Aerospace Scholars (WISH) project was piloted in FY2011 and expanded to include NASA High School Aerospace Scholars (NHAS) in FY2012. The NHAS/WISH will continue to provide opportunities for high school juniors to participate in STEM education engagement activities that use NASA unique assets and content. NHAS/WISH provides an interactive, online learning experience for high school juniors across the United States. Students apply voluntarily to be considered for this opportunity. This information collection consists of an online application form for completion by high school student applicants. The application process is intended to identify interested, qualified applicants for participation in a multiple-month, on-line curriculum delivery and, for those who successfully complete the on-line curriculum, in a one-week experience at a specific NASA site.

II. Method of Collection

Electronic.

III. Data

Title: NASA High School Aerospace Scholars (NHAS)/Women in STEM Aerospace Scholars (WISH).

OMB Number: 2700-0149.

Type of review: Regular clearance.

Affected Public: Individuals or households.

Estimated Number of Respondents: 1,600.

Estimated Annual Responses: 1,600.

Estimated Time per Response: 240 minutes.

Estimated Total Annual Burden Hours: 6400.

Estimated Total Annual Cost: $46,400.

IV. Request for Comments

Comments are invited on: (1) Whether the proposed collection of information is necessary for the proper performance of the functions of NASA, including whether the information collected has practical utility; (2) the accuracy of NASA's estimate of the burden (including hours and cost) of the proposed collection of information; (3) ways to enhance the quality, utility, and clarity of the information to be collected; and (4) ways to minimize the burden of the collection of information on respondents, including automated collection techniques or the use of other forms of information technology.

Fran Teel,
NASA PRA Clearance Officer.

[FR Doc. 2014-00868 Filed 1-16-14; 8:45 am]

BILLING CODE 7510-13-P